GENERAL SERVICES ADMINISTRATION

[Notice-MA-2019-04; Docket No. 2019-0002, Sequence No. 8]

Cancellation of FMR Bulletin B-30, Vehicle Allocation Methodology for Agency Fleets

AGENCY: Office of Government-wide Policy (OGP), General Services Administration (GSA).

ACTION: Notice.

SUMMARY: This notice announces the cancellation of GSA Federal Management Regulation (FMR) Bulletin B-30.

DATES: Applicable Date: June 11, 2019.

FOR FURTHER INFORMATION CONTACT: Mr. James Vogelsinger, Office of Government-wide Policy, Office of Asset and Transportation Management at (202) 501-1764 or via email at vehicle.policy@gsa.gov. Please cite notice of FMR Bulletin B-30 cancellation.

SUPPLEMENTARY INFORMATION:

A. Background

GSA Bulletin FMR B-9 was issued on August 26, 2005. The Bulletin provided guidance to Executive Branch agencies on the development and maintenance of a documented Vehicle Allocation Methodology for agency fleets. GSA Bulletin FMR B-30 cancelled FMR Bulletin B-9, effective August 22, 2011. GSA Bulletin FMR B-43 subsequently superseded FMR Bulletin B-30, effective March 20, 2017. This cancellation of GSA FMR Bulletin B-30 clarifies that GSA FMR Bulletin B-43 is the only guidance on Vehicle Allocation Methodology in effect currently.

B. Procedures

Bulletins regarding motor vehicle management are located on the internet at http://www.gsa.gov/fmrbulletin as FMR bulletins.

Jessica Salmoiraghi,
Associate Administrator, Office of Government-wide Policy.

[FR Doc. 2019-12239 Filed 6-10-19; 8:45 am]

BILLING CODE 6820-14-P